DEPARTMENT OF JUSTICE

National Institute of Corrections

Solicitation for a Cooperative Agreement—Production of Four Satellite/Internet Broadcasts and Produce Three Stand-Alone DVDs

AGENCY: National Institute of Corrections, Department of Justice.

ACTION: Solicitation for a Cooperative Agreement.

SUMMARY: The Department of Justice (DOJ), National Institute of Corrections (NIC) announces the availability of funds in FY 2010 for a cooperative agreement to fund the production of four satellite/internet broadcasts and produce three DVDs. Three of the proposed satellite programs are nationwide satellite/internet broadcasts (three hours each). One of the programs is eight-hours in length and will be a live broadcast for trainers and facilitators on “How to Use the Developed DVD.”

DATES: Applications must be received by 4 p.m. (EDT) on Tuesday, December 1, 2009.

ADDRESSES: Mailed applications must be sent to: Director, National Institute of Corrections, 320 First Street, NW., Room 5007, Washington, DC 20534. Applicants are encouraged to use Federal Express, UPS, or similar service to ensure delivery by the due date.

Hand delivered applications should be brought to 500 First Street, NW., Washington, DC 20534. At the front desk, dial 7-3106, extension 0 for pickup.

Faxed applications will not be accepted. Electronic applications can be submitted via http://www.grants.gov.

FOR FURTHER INFORMATION CONTACT: All technical and/or programmatic questions concerning this announcement should be directed to Ed Wolahan, Corrections Program Specialist, at 791 Chambers Road, Aurora, CO 80011, or by calling 800-995-6429, ext 4419, or by e-mail at ewolahan@bop.gov.

SUPPLEMENTARY INFORMATION:

Background: Satellite/Internet Broadcasting is defined as a training/education process transpiring between trainers/teachers at one location and participants/students at other locations via technology. NIC is using satellite broadcasting and the internet to economically reach more criminal justice staff in federal, state and local agencies.

Another strong benefit of satellite delivery is its ability to broadcast programs conducted by experts in the correctional field, thus reaching the entire audience at the same time with exactly the same information. In addition, NIC is creating stand-alone training programs on DVDs.

Purpose: The purpose of funding this initiative is to produce four satellite/internet broadcasts, disseminating current information to the criminal justice community. Three will be three hours in length, one will be eight-hours in length. We will also develop and produce the stand alone DVDs.

Scope of Work: To address the scope of work for this project, the following will be needed:

(1) Producer Consultation and Creative Services: The producer will: Consult and collaborate with NIC's Distance Learning Administrator (Executive Producer) on program design, program coordination, design of field segments and content development; work with each consultant/trainer to develop their modules for delivery using the satellite/internet format and/or the teleconference format; help develop scripts, graphic design, production elements and rehearsals for each module of the site coordinators' training and the satellite/internet training programs; and use their expertise in designing creative ways to deliver satellite teleconferencing. The producer will also be responsible for attending planning meetings and assisting in the videotaping of testimonials at conferences.

(2) Pre-Production Video: The producer will supervise the production of vignettes to be used in each of the satellite/Internet broadcasts, as well as each DVD production. NIC presenters (content experts) will draft outlines of the scripts for each vignette. From the outlines, scripts will be developed by the producer (script writing expert) and approved by NIC's Distance Learning Administrator. Professional actors will play the parts designated by the script. Story boards for each production will be written by NIC's Distance Learning Administrator. A total of between 18 and 25 vignettes will be created under this cooperative agreement. The producer will supervise camera and audio crews to capture testimonials from leaders in the criminal justice field at designated conferences. (There will be four such conferences in 2010.) The producer will coordinate all planning of the production and post-production for each of the seven satellite/Internet broadcasts.

(3) Video Production: Video production for each teleconference will consist of videotaping content-related events in the field, editing existing video, and videotaping experts for testimonial presentations. It will also include voice over, audio and music if necessary, for each video. Blank tapes and narration for field shooting will be purchased for each site. The format for all field shooting will be either Beta Cam, DVD Pro Digital and/or Mini DVD.

(4) Post Production (Studio): Innovative and thought-provoking opening sequences will be produced for each teleconference. In addition, graphics will be utilized to enhance the learning in each module. The producer will coordinate art direction, lighting, set design, and furniture for all teleconference segments. (Set design should change periodically throughout the award period.) The set will be customized to each topic. The producer will organize and supervise the complete production crew on rehearsal and production days, per the schedules below. This will also include the production of DVDs for each broadcast and the editing necessary for a final and approved cut.

(5) Production: The production group will set up and maintain studio lighting, adjust audio, and have a complete production crew for the days and hours set by the Distance Learning Administrator. A production crew shall include the following: Director, Audio Operator, Video Operator, Character Generator Operator, Floor Director, Four (4) Camera Operators, Teleprompter Operator, On-Line Internet Coordinator, Make-Up Artist (production time only), and Interactive Assistance Personnel (fax, e-mail, and telephone). Each production shall also have closed captioning for all programs.

After each production, the studio will provide 12 DVD copies to NIC and the Master on Beta Cam and DVD. The DVD will have a splash page that will break down each module, each day, and the vignettes that have been produced for each program.

For each three-hour program, NIC will receive one DVD with splash page. For the eight-hour program, NIC will receive two DVDs and, for the sixteen-hour program, four DVDs will be provided, with splash page on each. Each DVD will be edited to provide the necessary content under the direction of the Distance Learning Administrator.

(6) Transmission: The producer will: Purchase satellite uplink time that will include the footprints of Alaska, Hawaii, Virgin Islands, and the Continental United States; acquire downlink transponder time for KU-Band; purchase internet streaming of 200 simultaneous feeds for each program; be able to provide closed captioning on the final edited DVD on all production.

(7) Equipment: Applicants must have a minimum of the following equipment: Broadcast studio of approximately 2,000 square feet, with an area for a studio audience of between 15 and 20 people; Four Digital Studio Cameras (one of which must be an overhead camera with robotic control); Chroma Key: at least one wall with chroma key capability, along with a digital ultimate keying system; A tape operation facility providing playback/record in various formats, including DV, Betacam, Betacam SP, SVHS, VHS, U-Matic 3/4 & SP; Advit or comparable editing bay; Three-dimensional animation with computer graphics; Internet streaming capacity for several hundred simultaneous downloads in both G2 Real Player and Microsoft Media Player—Capture Closed Captioning; ability to archive four selected satellite/internet broadcasts from FY 2009 and all four broadcasts from FY 2010; Computer Teleprompter for at least three studio cameras; Interruptible Fold Back (IFB) or In Ear Monitor (IEM) for all presenters and the moderator during the three hour programs and an (IFB) for each presenter during the eight-hour program; individual control from control room to the Distance Learning Administrator; Wireless microphones for each presenter during the three-, eight-, and sixteen-hour programs; Microphones for the studio audience at each round table (should be able to pick up audio during the training program); Satellite Uplink and Transponder: KU-Band Digital with the footprints of Alaska, Hawaii, Virgin Islands, and the Continental United States; Portable Field Equipment—Digital Video Cameras with recording decks, portable lighting kits, microphones (both hand-held and lapel), field monitors, audio mixers, and camera tripods.

(8) Personnel: Applicants must have a minimum of the following qualified personnel: Producer/Director; Script Writer; Set Designer; Lighting Designer; Audio Operator; Graphics Operator; Graphics Artist; Floor Manager; Studio Camera Operators (4); Tape Operator; Location Camera Operator; Teleprompter Operator; Clerical/Administrative Support; Makeup Artist (as needed during production); Closed Caption Operator (as needed during production).

Application Requirements: Applications should be concisely written, typed double spaced and reference the project by the “NIC Opportunity Number” and Title in this announcement. The package must include: a cover letter that identifies the audit agency responsible for the applicant's financial accounts as well as the audit period or fiscal year that the applicant operates under (e.g., July 1 through June 30); a program narrative in response to the statement of work and a budget narrative explaining projected costs. The following forms must also be included: OMB Standard Form 424, Application for Federal Assistance; OMB Standard Form 424A, Budget Information—Non-Construction Programs; OMB Standard Form 424B, Assurances—Non-Construction Programs (these forms are available at http://www.grants.gov) and DOJ/NIC Certification Regarding Lobbying; Debarment, Suspension and Other Responsibility Matters; and the Drug-Free Workplace Requirements (available at: http://www.nicic.gov/Downloads/PDF/certif-frm.pdf.)

Applications may be submitted in hard copy, or electronically via http://www.grants.gov. If submitted in hard copy, there must to be an original and three copies of the full proposal (program and budget narratives, application forms and assurances). The original should have the applicant's signature in blue ink.

Authority: Public Law 93-415.

Funds Available: NIC is seeking the applicants' best ideas regarding accomplishment of the scope of work and the related costs for achieving the goals of this solicitation. Funds may only be used for activities that are linked to the desired outcome of the project.

This project will be a collaborative venture with the NIC Academy Division.

Eligibility of Applicants: An eligible applicant is any public or private agency, educational institution, organization, individual or team with expertise in the described areas.

Review Considerations: Applications received under this announcement will be subjected to an NIC three- to five-member review panel.

Note: NIC will NOT award a cooperative agreement to an applicant who does not have a Dun and Bradstreet Database Universal Number (DUNS) and is not registered in the Central Contractor Registry (CCR).

A DUNS number can be received at no cost by calling the dedicated toll-free DUNS number request line at 1-800-333-0505 (if you are a sole proprietor, you would dial 1-866-705-5711 and select option 1).

Registration in the CRR can be done online at the CRR Web site: http://www.crr.gov. A CRR Handbook and worksheet can also be reviewed at the Web site.

Number of Awards: One (1).

NIC Opportunity Number: 10A59. This number should appear as a reference line in your cover letter, where indicated on Standard Form 424, and outside of the envelope in which the application is sent.

Catalog of Federal Domestic Assistance Number: 16.601.

Executive Order 12372: This program is not subject to the provisions of Executive Order 12372.

Morris L. Thigpen,
Director, National Institute of Corrections.

[FR Doc. E9-26293 Filed 10-30-09; 8:45 am]

BILLING CODE 4410-36-P